DEPARTMENT OF TRANSPORTATION

Federal Aviation Administration

RTCA Program Management Committee; Meeting

Pursuant to section 10(a)(2) of the Federal Advisory Committee Act (Pub. L. 92-463, U.S.C. Appendix 2), notice is hereby given for Program Management Committee (PMC) meeting to be held June 20, 2000, starting at 9 a.m. The meeting will be held at RTCA, Inc., 140 Connecticut Avenue, NW., Suite 1020, Washington, DC 20036.

The agenda will include: (1) Welcome and Introductions; (2) Review and Approve Summary of Previous Meeting; (3) Consider and Approval Publication of: (a) Final Draft, Requirements Specification for Avionics Computer Resource (RTCA Paper No. 131-00/SC182-105), prepared by SC-182; (b) Final Draft, Minimum Human Factors Standards for Air Traffic Services Provided Via Data Communications Utilizing the Aeronautical Telecommunications Network (ATN), Builds I and IA (RTCA Paper No. 132-00/SC194-021), prepared by SC-194; (4) Review Action Item 00-04, Update on NEXCOM; (5) Discuss SC-159 Work Program—GNSS Application to Airport Surface Operations; (6) Discuss Document Production; (7) Other Business; (8) Date and Location of Next Meeting; (9) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on May 25, 2000.
Janice L. Peters,
Designated Official.

[FR Doc. 00-13835 Filed 6-1-00; 8:45 am]

BILLING CODE 4910-13-M